DEPARTMENT OF JUSTICE

Notice of Lodging of Consent Decree Under the Oil Pollution Act

Notice is hereby given that on March 7, 2008, a proposed Consent Decree in United States et al. v. Kure Shipping S.A., et al., Civil Action No. C-08-1328 JL, was lodged with the United States District Court for the Northern District of California.

The Consent Decree settles claims for natural resource damages under the Oil Pollution Act, 33 U.S.C. 2701 et seq., and certain state law claims that arose in connection with a 1997 spill of fuel oil from the M/V Kure in the vicinity of Humboldt Bay, near Eureka, California. Under the Consent Decree the defendants will: (1) Pay $2,462,067 jointly to the state and federal natural resource trustees for natural resource damages; (2) pay $1,093,092 to cover assessment and response costs incurred by the U.S. Department of the Interior and the California Department of Fish and Game; (3) pay $100,000 to resolve certain state law claims; and (4) purchase a conservation easement to protect approximately 300 acres of redwood forest in perpetuity as habitat for the marbled murrelet.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States et al. v. Kure Shipping S.A., et al., D.J. Ref. 90-5-1-1-4529.

During the public comment period, the proposed Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $19.75 (25 cents per page reproduction cost) payable to the U.S. Treasury.

Henry S. Friedman,
Environmental Enforcement Section, Environment and Natural Resources Division.

[FR Doc. E8-5095 Filed 3-13-08; 8:45 am]

BILLING CODE 4410-15-P